NUCLEAR REGULATORY COMMISSION

10 CFR Part 52

[NRC-2017-0029]

RIN 3150-AJ98

NuScale Small Modular Reactor Design Certification

AGENCY: Nuclear Regulatory Commission.

ACTION: Proposed rule; extension of comment period.

SUMMARY: On July 1, 2021, the U.S. Nuclear Regulatory Commission (NRC) issued for public comment proposed amendments to its regulations to certify the NuScale standard design for a small modular reactor. The public comment period was originally scheduled to close on August 30, 2021. The NRC has decided to extend the public comment period by an additional 45 days to allow more time for members of the public to develop and submit their comments.

DATES: The comment period for the document published on July 1, 2021 (86 FR 34999) is extended. Comments should be filed no later than October 14, 2021. Comments received after this date will be considered, if it is practical to do so, but the Commission is able to ensure consideration only for comments received on or before this date.

ADDRESSES: You may submit comments by any of the following methods (unless the document published on July 1, 2021, describes a different method for submitting comments on a specific subject); however, the NRC encourages electronic comment submission through the Federal rulemaking website:

• Federal Rulemaking Website: Go to https://www.regulations.gov and search for Docket ID NRC-2017-0029. Address questions about NRC Docket IDs to Dawn Forder; telephone: 301-415-3407; email: Dawn.Forder@nrc.gov. For technical questions, contact the individuals listed in the FOR FURTHER INFORMATION CONTACT section of this document.

• Email comments to: Rulemaking.Comments@nrc.gov. If you do not receive an automatic email reply confirming receipt, then contact us at 301-415-1677.

For additional direction on obtaining information and submitting comments, see “Obtaining Information and Submitting Comments” in the SUPPLEMENTARY INFORMATION section of this document.

FOR FURTHER INFORMATION CONTACT: Dennis Andrukat, Office of Nuclear Material Safety and Safeguards, telephone: 301-415-361, email: Dennis.Andrukat@nrc.gov, and Carolyn Lauron, Office of Nuclear Reactor Regulation, telephone: 301-415-2736, email: Carolyn.Lauron@nrc.gov. Both are staff of the U.S. Nuclear Regulatory Commission, Washington, DC 20555-0001.

SUPPLEMENTARY INFORMATION:

I. Obtaining Information and Submitting Comments

A. Obtaining Information

Please refer to Docket ID NRC-2017-0029 when contacting the NRC about the availability of information for this action. You may obtain publicly available information related to this action by any of the following methods:

• Federal Rulemaking website: Go to https://www.regulations.gov and search for Docket ID NRC-2017-0029.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• Attention: The PDR, where you may examine and order copies of public documents, is currently closed. You may submit your request to the PDR via email at PDR.Resource@nrc.gov or call 1-800-397-4209 between 8 a.m. and 4 p.m. (EST), Monday through Friday, except Federal holidays.

• Attention: The Technical Library, which is located at Two White Flint North, 11545 Rockville Pike, Rockville, Maryland 20852, is open by appointment only. Interested parties may make appointments to examine documents by contacting the NRC Technical Library by email at Library.Resource@nrc.gov between 8 a.m. and 4 p.m. (ET), Monday through Friday, except Federal holidays.

B. Submitting Comments

The NRC encourages electronic comment submission through the Federal Rulemaking website (https://www.regulations.gov). Please include Docket ID NRC-2017-0029 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

I. Discussion

On July 1, 2021, the NRC solicited comments on the proposed NuScale small modular reactor design certification. The NRC proposed amendments to its regulations so that applicants or licensees intending to construct and operate a NuScale standard design may do so by referencing the design certification rule. The public comment period was originally scheduled to close on August 30, 2021.

On July 27, 2021, the NRC received a public comment (ADAMS Accession No. ML21209A763) requesting that the comment period for the proposed rule be extended by an additional 90 days. The request states that due to the large volume of related documents that need to be reviewed, additional time is needed to submit comments. No specific basis was given for requesting an additional 90 days to prepare comments.

The NRC seeks to ensure that the public has a reasonable opportunity to provide the NRC with comments on this proposed action. The NRC acknowledges that the rulemaking documents contain a significant amount of information. However, the NRC is also responsible for deciding whether to issue a design certification within a reasonable time. Accordingly, to balance these interests, the NRC has decided to extend the comment period for the proposed rule for an additional 45 days. A 45-day extension provides a reasonable opportunity for all stakeholders to review these documents and to develop informed comments on these documents, while not unduly delaying the NRC's final decision on the design certification.

The NRC has decided to extend the public comment period for the proposed rule until October 14, 2021, to allow more time for members of the public to submit their comments.

Dated: August 17, 2021.
For the Nuclear Regulatory Commission.
Annette L. Vietti-Cook,
Secretary of the Commission.

[FR Doc. 2021-18071 Filed 8-23-21; 8:45 am]

BILLING CODE 7590-01-P